DEPARTMENT OF COMMERCE

National Oceanic and Atmospheric Administration

50 CFR Part 635

[Docket No. 021113274-2274-01; I.D. 031501A]

RIN 0648-AO79

Atlantic Highly Migratory Species; Exempted Fishing Activities: Reopening of Comment Period

AGENCY: National Marine Fisheries Service (NMFS), National Oceanic and Atmospheric Administration (NOAA), Commerce.

ACTION: Proposed rule; reopening of comment period.

SUMMARY: NMFS is reopening the deadline for filing comments on the proposed rule published December 6, 2002, which would modify existing exempted fishing regulations for Atlantic highly migratory species (HMS). Comments are currently due to be filed by 5 p.m. eastern standard time, on January 6, 2003. The comment period is being reopened to comply with requests submitted by a number of constituents who potentially could be affected by the proposed rule.

DATES: The effective data for reopening the comment period is January 10, 2003 through March 17, 2003. Comments must be received by 5 p.m. eastern standard time, on March 17, 2003.

ADDRESSES: Written comments on the proposed rule should be submitted to Christopher Rogers, Chief, Highly Migratory Species Management Division (F/SF1), Office of Sustainable Fisheries, NMFS, 1315 East-West Highway, Silver Spring, MD 20910. Comments also may be sent via facsimile (fax) to 301-713-1917. Comments regarding the collection-of-information requirement contained in this proposed rule should be sent to the Highly Migratory Species Management Division (F/SF1), 1315 East-West Highway, Silver Spring, MD 20910, and to the Office of Information and Regulatory Affairs, Office of Management and Budget (OMB), Washington, DC 20503 (Attention: NOAA Desk Officer). Comments will not be accepted if submitted via e-mail or the internet.

FOR FURTHER INFORMATION CONTACT: Sari Kiraly or Heather Stirratt at 301-713-2347, fax 301-713-1917, e-mail Sari.Kiraly@noaa.gov.

SUPPLEMENTARY INFORMATION: The proposed rule was published on December 6, 2002 (67 FR 72629). Subsequently, a public hearing was held on December 17, 2002, in Orlando, Florida. At the public hearing and in written correspondence a number of constituents who potentially could be affected by the proposed rule requested that the comment period be extended. This is to allow more time for preparing comments in response to the proposed rule. To that effect, the comment period is reopened until March 17, 2003.

Dated: January 6, 2003.
Bruce C. Morehead,
Acting Director, Office of Sustainable Fisheries, National Marine Fisheries Service.

[FR Doc. 03-520 Filed 1-9-03; 8:45 am]

BILLING CODE 3510-22-S